DEPARTMENT OF HOUSING AND URBAN DEVELOPMENT

[Docket No. FR-7080-N-49]

30-Day Notice of Proposed Information Collection; Affirmative Fair Housing Marketing Plan—HUD 935.2A, HUD 935.2B, and HUD 935.2C; OMB Control No.: 2529-0013

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comment Due Date: November 4, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

1. Electronic Submission of Comments. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of the notice. Facsimile (FAX) comments are not acceptable.

FOR FURTHER INFORMATION CONTACT: Colette Pollard, Reports Management Officer, REE, Department of Housing and Urban Development, 7th Street SW, Room 8210, Washington, DC 20410; email Colette.Pollard@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A. The Federal Register notice that solicited public comment on the information collection for a period of 60 days was published on June 26, 2024, at 80 FR 53437.

A. Overview of Information Collection

Title of Information Collection: Affirmative Fair Housing Marketing Plan.

OMB Approval Number: 2529-0013.

Type of Request: Revision of a currently approved collection.

Form Number: HUD 935.2A, HUD 935.2B, HUD 935.2C.

Description of the need for the information and proposed use: HUD is requesting that the OMB approve the revision of forms: HUD-935.2A Affirmative Fair Housing Marketing Plan—Multifamily Housing, HUD-935.2B Affirmative Fair Housing Marketing Plan—Single Family Housing, and HUD-935.2C Affirmative Fair Housing Marketing Plan—Condominiums or Cooperatives. These forms assist HUD in fulfilling its duty under the Fair Housing Act to administer its programs and activities relating to housing and urban development in a manner that affirmatively furthers fair housing, by promoting a condition in which individuals of similar income levels in the same housing market area have available a like range of housing choices, regardless of race, color, national origin, religion, sex (including sexual orientation and gender identity), disability, or familial status. These forms assist HUD grantees and insured housing with their compliance with the Fair Housing Act and other civil rights requirements. This collection also promotes compliance with Executive Order 11063, which requires Federal agencies to take all necessary and appropriate action to prevent discrimination in federally insured and subsidized housing. Under the Affirmative Fair Housing Marketing Regulations (24 CFR part 200, subpart M), an AFHMP must be submitted by all applicants for participation in Federal Housing Administration (FHA) subsidized and unsubsidized housing programs that involve the development or rehabilitation of the following types of housing: (1) multifamily projects or manufactured home parks of five or more lots, units, or spaces; (2) a single family property, where the property is located in a subdivision and the builder or developer intends to sell five or more properties in the subdivision, and a lender is making an initial application for mortgage insurance; or (3) dwelling units, when the applicant's participation in FHA housing programs had exceeded or would thereby exceed the development of five or more of such dwelling units during the year preceding the application (not counting the development of single family dwelling units for occupancy by a mortgagor on property owned by the mortgagor and in which the applicant had no interest prior to entering into the contract for construction or rehabilitation). The regulations require applicants to submit the AFHMP on a form prescribed by the Department (i.e., HUD-935A; HUD-935B and HUD 935-C). If this information was not collected, it would prevent HUD from ensuring compliance with affirmative fair housing marketing requirements.

HUD is revising the HUD-935.2A to clarify the instructions involving marketing activities and reduce the need to provide information that has already been reported to HUD. The revision also substantially reduces the burden hours of completing the form using Microsoft Excel to automate the retrieval of project demographics and geocoded Census data once users enter an existing nine-digit Property ID.

Respondents: Applicants for FHA subsidized and unsubsidized housing programs.

Estimated Number of Respondents: 5,703 For the HUD 935.2A: On an annual basis, there are approximately 303 respondents that submit new plans and 1,080 respondents that review their existing plans and submit updated plans. There are 4,320 respondents who will review their AFHMP and determine that it does not need to be submitted for HUD approval.

For HUD 935.2.B & C: On an annual basis, there are approximately 30 respondents that submit new plans.

Estimated Number of Responses: 5,733.

Frequency of Response: 1 per annum.

Average Hours per Response: The average hours per response is 2.7 hours. (For HUD-935.2A, the hours per response are: 4 hours (new plans) and 2 hours (to review and update plans. Census data needed for updates are now automated) and 2 hours (review only, i.e. those who review and determine that an update is not needed). For HUD-935.2B & C, the hours per response is 3 hours (average hours between those that will certify that they do not need to complete the form and those that will complete the form).

Total Estimated Burden: 12,102 hours.

Information collection | Number of respondents | Frequency of response | Responses per annum | Burden hour per response | Annual burden hours | Hourly cost per response | Annual cost
HUD-935.2A (MFH) | 5,703 | 1 | 5,703 | New 4 × 303 Review & Update 2 × 1,080. Review 2 × 4,320. | New 1,212 Review & Update 2,160. Review 8,640. | Respondents $40/hr (professional work). $18/hr (clerical work). $1.35 per report mailing. | Respondents New = ($40 × 4 × 303) + ($18 × 2 × 303) = $59,388. Updates = ($40 × 2 × 1,080) + ($18 × 2 × $1,080) = $125,280. Reviews = ($40 × 2 × 4,320) = $345,600. Mailing Costs = $1.35 × 100 = $135. Annual Cost = $59,388 + $125,280 + $345,600 + $135 = $530,403.
|  |  |  |  |  | Government $40.45/hr * (professional work). $18.40/hr ** (clerical work). | Government New = ($40.45 × 3 × 303) + ($18.40 × 0.5 × 303) = $39,556.65. Reviews & Updates = ($40.45 × 3 × 1,080) + ($18.40 × 0.5 × 1,080) = $140,994. Annual Cost = $39,556.65 + $140,994 = $180,550.65.
HUD-935.2B (SFH) & C (Condos and Co-Ops) | 30 | 1 | 30 | 3 | 90 | Respondents $40/hr (professional work). $18/hr (clerical work). $1.35 per report mailing. | Respondents ($40 × 3 × 30) + ($18 × 2 × 30) = $4,680. $1.35 × 0 = $0. Annual Cost = $4,680 + $0 = $4,680.
|  |  |  |  |  | Government $40.42/hr (professional work). $18.40/hr (clerical work). | Government Annual Cost = ($40.42 × 3 × 30) + ($18.40 × 0.5 × 30) = $3,918.8.
Total | 5,733 | 1 each | 5,733 | Avg. of 2.12 | 12,102 | Avg. of $17.84 | Respondents $535,083. Government $184,469.49.
* Base rate for GS 12 Step 5 ($40.42/hr) based on the salary information available on OPM.gov.
** Base rate for GS 5 step 5 ($18.40/hr) based on the salary information available on OPM.gov.

Discussion of Revisions

HUD received comments from one commenter, who strongly supported the continued use of the AFHMP. In response to the comments, HUD made minor revisions to the forms as described in the responses below.

General Comments

Form Clarity: The commenter suggested that the AFHMP form clarify the meaning of “market area.” The commenter suggested using broader metropolitan areas such as MSAs or regional planning geographies rather than a developer's subjective view of the HMA without considering regional patterns of segregation. The commenter also suggested the replacement of “tenants” with “potential residents” because market area selection requirements include homeownership. Lastly, the commenter suggested that the demographics of income eligible persons be considered.

HUD Response: HUD appreciates these suggestions and has replaced the term “tenants” with “potential residents” in Forms 935.2B and 935.2C to reflect that these units are for owner-occupants.

HUD agrees that the demographics of income-eligible persons are an important consideration and will explore how to incorporate additional data sources in future versions of the form.

With regard to geographies, the form instructions define a housing market area (HMA) as an area from which a multifamily housing project owner/agent, may “reasonably expect to draw a substantial number of tenants,” and an Expanded Housing Market Area (EHMA) as “a larger geographic area, such as a Metropolitan Division or a Metropolitan Statistical Area, which may provide additional demographic diversity regarding race, color, national origin, religion, sex, familial status, or disability.” The automated form 935.2A selects default HMA and EHMA based on a property's location. The form instructions detail the default selections. The default HMA is the Census Place (e.g. population centers such as municipalities, cities, towns, villages, or Zip Code Tabulation Areas for unincorporated places) where the development is located. In response to public comments, we have added examples of Census Places to the instructions. The default EHMA is a Metropolitan or Micropolitan Statistical Area, if applicable, or a County for properties not located within an MSA. In response to this comment, we have added additional details to instructions of all three forms giving examples of Census-defined places.

To account for unusual circumstances and data or technical issues, the automated form retains a manual input feature that may be used to select alternate HMA and EHMA geographies. Users choosing alternate HMAs or EHMAs must explain and justify their selections in Question 13. HUD expects that defining default HMA/EHMA's while also allowing manual selections will result in more standardized AFHMP submissions and more clarity around the intent of analyzing demographics at both the HMA and EHMA levels, while preserving flexibility for housing providers and reviewers to account for local conditions.

Preferences: The commenter supported the inclusion of the residency preferences questions. The commenter suggested that HUD require that any residency preference be clearly defined by its geographic impact and demonstrate that they do not discriminatorily limit access by applicants. The commenter also suggested that the AFHMP form provide instructions for analyzing whether other types of preferences exclude applicants who are least likely to apply.

HUD Response: All admissions preferences must comply with nondiscrimination requirements and applicable civil rights laws. However, HUD regulations at 24 CFR 5.655(c)(1) and 24 CFR 5.105(a), specifically require that HUD review and approve residency preferences as part of the AFHMP process. Accordingly, HUD has required and will continue to require a geographic analysis for AFHMP submissions requesting or modifying residency preferences. If during the course of reviewing an AFHMP submission HUD becomes aware of other admissions preferences in response to question 1j that violate program requirements or civil rights, reviewers will work with owners and/or agents to revise preferences prior to approval.

Burden Estimate: The commenter noted that the burden hours could be substantially longer than estimated unless demographic information is readily and easily available.

HUD Response: The revised Form 935-2A automates the retrieval of demographic and geocoded census data which is estimated to substantially reduce the burden hours to complete the form. HUD reorganized forms 935-2B and 935-2C to highlight the self-certification option, which reduces the burden hours of completing the forms.

Alternative Marketing Techniques: The commenter suggested that the instructions should include alternative media to reach out to people least likely to apply, including outreach to persons on the Housing Choice Voucher waiting list, social media, direct mailings, advertising on buses and trains, flyers at daycare, senior, and recreation centers; groceries; and tours of the housing and neighborhood.

HUD Response: The forms currently include examples of various marketing outreach and community contacts, including PHAs. Housing providers are encouraged to continue to exhaust various means to advertise housing and draw potential residents that are least likely to apply.

Solicitation of Public Comment

In accordance with 5 CFR 1320.8(d)(1), HUD is specifically soliciting comment from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35

Colette Pollard,
Department Reports Management Officer, Office of Policy Development and Research, Chief Data Officer.

[FR Doc. 2024-22833 Filed 10-2-24; 8:45 am]

BILLING CODE 4210-67-P